DEPARTMENT OF COMMERCE

International Trade Administration

[A-533-823]

Silicomanganese From India: Final Results of Antidumping Duty Administrative Review; 2013-2014

AGENCY: Enforcement and Compliance, International Trade Administration, U.S. Department of Commerce.

SUMMARY: On June 4, 2015, the Department of Commerce (Department) published its preliminary results of the administrative review of the antidumping duty order on silicomanganese from India covering the period of review (POR) May 1, 2013, through April 30, 2014.¹ This review covers one producer/exporter of subject merchandise, Nava Bharat Ventures Limited (Nava). For the final results, we continue to determine that Nava did not sell subject merchandise to the United States at below normal value (NV) during the POR. The final results are listed in the section entitled “Final Results of Review” below.

¹ See Silicomanganese From India: Preliminary Results of Antidumping Duty Administrative Review; 2013-2014, 80 FR 31891 (June 4, 2015) (Preliminary Results).

DATES: Effective date: December 3, 2015.

FOR FURTHER INFORMATION CONTACT: David Lindgren at (202) 482-3870; AD/CVD Operations, Office VII, Enforcement and Compliance, International Trade Administration, U.S. Department of Commerce, 14th Street and Constitution Avenue NW., Washington, DC 20230.

SUPPLEMENTARY INFORMATION:

Background

On June 4, 2015, the Department published the Preliminary Results of this administrative review and, on August 24, 2015, we invited parties to comment on the Preliminary Results. The administrative review covers one producer and exporter of the subject merchandise to the United States, Nava. Petitioners timely filed their case brief on September 4, 2015, and Nava timely filed its rebuttal brief on September 8, 2015. The Department conducted this administrative review in accordance with section 751(a) of the Tariff Act of 1930, as amended (the Act).

Scope of the Order

The products subject to the order are all forms, sizes and compositions of silicomanganese, except low-carbon silicomanganese, including silicomanganese briquettes, fines and slag. The silicomanganese subject to the order is currently classifiable under subheading 7202.30.0000 of the Harmonized Tariff Schedule of the United States (HTSUS). The HTSUS subheading is provided for convenience and customs purposes. The written description is dispositive. A full description of the scope of the order is contained in the Issues and Decision Memorandum, which is hereby adopted by this notice.² The Issues and Decision Memorandum is a public document and is on file electronically via Enforcement and Compliance's Antidumping and Countervailing Duty Centralized Electronic Service System (ACCESS). Access to ACCESS is available to registered users at http://access.trade.gov and is available to all parties in the Central Records Unit, room B8024 of the main Department of Commerce building. In addition, a complete version of the Issues and Decision Memorandum can be accessed directly on the Internet at http://enforcement.trade.gov/frn/index.html. The signed Issues and Decision Memorandum and the electronic versions of the Issues and Decision Memorandum are identical in content.

² See Memorandum to Paul Piquado, Assistant Secretary for Enforcement and Compliance, “Issues and Decision Memorandum for Final Results of the 2013-2014 Antidumping Duty Administrative Review of Silicomanganese from India,” dated concurrently with this notice (Issues and Decision Memorandum).

Analysis of Comments Received

All issues raised in the case and rebuttal briefs by parties in this review are addressed in the Issues and Decision Memorandum. The issues that parties raised, and to which we responded in the Issues and Decision Memorandum, follow as an appendix to this notice.

Changes Since the Preliminary Results

Based on our analysis of the comments received, we have made no adjustments to the margin calculations for Nava.

Final Results of Review

The final weighted-average dumping margin for the period May 1, 2013, through April 30, 2014, is as follows:

Manufacturer/Exporter | Weighted-Average margin (percent)
Nava Bharat Ventures Limited | 0.00

Assessment Rates

The Department will instruct U.S. Customs and Border Protection (CBP) to assess antidumping duties in accordance with 19 CFR 351.212(b)(1). Nava's weighted-average dumping margin in these final results is zero percent. Therefore, we will instruct CBP to liquidate all appropriate entries without regard to antidumping duties. The Department intends to issue the appropriate assessment instructions for Nava to CBP 15 days after the date of publication of these final results.

Cash Deposit Requirements

The following deposit requirements will be effective for all shipments of silicomanganese from India entered, or withdrawn from warehouse, for consumption on or after the date of publication of the final results of this administrative review, as provided for by section 751(a)(2)(C) of the Act: (1) The cash deposit rate for Nava will be the weighted-average dumping margin listed above; (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and, (4) if neither the exporter nor the manufacturer is a firm covered in this or any previous review, the cash deposit rate will be the all others rate for this proceeding, 17.74 percent, as established in the less-than-fair-value investigation.³ These deposit requirements, when imposed, shall remain in effect until further notice.

³ See Silicomanganese from India: Notice of Final Determination of Sales at Less Than Fair Value and Final Negative Critical Circumstances Determination, 67 FR 15531 (April 2, 2002), as corrected in Notice of Amended Final Determination of Sales at Less than Fair Value and Antidumping Duty Orders: Silicomanganese from India, Kazakhstan, and Venezuela, 67 FR 36149 (May 23, 2002).

Disclosure

We will disclose the calculations performed within five days of the date of publication of this notice to parties in this proceeding in accordance with 19 CFR 351.224(b).

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice is the only reminder to parties subject to the administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

These final results of administrative review and notice are published in accordance with sections 751(a)(1) and 777(i)(1) of the Act and 19 CFR 351.213(h).

Dated: November 24, 2015.
Paul Piquado,
Assistant Secretary for Enforcement and Compliance.

Appendix—List of Topics Discussed in the Issues and Decision Memorandum

I. Summary

II. Background

III. Scope of the Order

IV. Margin Calculations

V. Discussion of the Issue

Issue 1: Bona Fides of Nava's U.S. Sale

VI. Recommendation

[FR Doc. 2015-30546 Filed 12-2-15; 8:45 am]

BILLING CODE 3510-DS-P